AGENCY FOR INTERNATIONAL DEVELOPMENT

2 CFR Part 780

RIN 0412-AA77

Administrative Changes to the USAID Regulation on Nonprocurement Debarment and Suspension

AGENCY: U.S. Agency for International Development.

ACTION: Direct final rule.

SUMMARY: The U.S. Agency for International Development (USAID) is amending its regulations regarding nonprocurement debarment and suspension to revise the designation of the Agency official who will serve as the Agency's Suspending Official and Debarring Official and also to revise the designation of the individual who may grant an exception to let an excluded person participate in a covered transaction.

DATES: This rule is effective June 10, 2015 without further action, unless adverse comments are received by April 13, 2015. Submit comments on or before April 13, 2015.

ADDRESSES: Address all comments concerning this notice to Marcelle J. Wijesinghe, Bureau for Management, Office of Acquisition and Assistance, Policy Division (M/OAA/P), Room 867J, SA-44, Washington, DC 20523-2052. Submit comments, identified by title of the action and Regulatory Information Number (RIN) by any of the following methods:

Federal eRulemaking Portal: http://www.regulations.gov. Follow the instructions for submitting comments.

Email: Submit electronic comments to both mwijesinghe@usaid.gov and lbond@usaid.gov. See SUPPLEMENTARY INFORMATION for file formats and other information about electronic filing.

Mail: USAID, Bureau for Management, Office of Acquisition & Assistance, Policy Division, Room 867J, SA-44, Washington, DC 20523-2052.

FOR FURTHER INFORMATION CONTACT: Lyudmila Bond, Telephone: 202-567-4753 or Email: lbond@usaid.gov.

SUPPLEMENTARY INFORMATION:

A. Instructions

All comments must be in writing and submitted through one of the methods specified in the ADDRESSES section above. All submissions must include the title of the action and RIN for this rulemaking. Please include your name, title, organization, postal address, telephone number, and email address in the text of the message.

Comments submitted by email must be included in the text of the email or attached as a PDF file. Please avoid using special characters and any form of encryption. Please note, however, that because security screening precautions have slowed the delivery and dependability of surface mail to USAID/Washington, USAID recommends sending all comments to the Federal eRulemaking Portal.

All comments will be made available for public review without change, including any personal information provided, from three workdays after receipt to finalization of the action at http://www.regulations.gov. Do not submit information that you consider Confidential Business Information (CBI) or any information that is otherwise protected from disclosure by statute.

USAID is publishing this revision as a direct final rule as the Agency views this as an administrative amendment and does not anticipate any adverse comments. This rule will be effective on the date specified in the Dates section above without further notice unless adverse comment(s) are received by the date specified in the Dates section above. If adverse comments are received, USAID will publish a timely withdrawal of the rule in the Federal Register. Only comments that explain why the rule would be inappropriate, ineffective or unacceptable without a change will be considered.

B. Background

The following changes are implemented by this final rule:

(1) To enhance and elevate the independent authority of the suspending and debarring official (SDO) at USAID, the Agency is transferring the duties of the SDO from the procurement office to the Assistant Administrator, Bureau for Management or designee. This rule is implementing this change as applicable to nonprocurement debarment and suspension.

(2) The authorities to grant an exception permitting an excluded person to participate in a particular covered transaction, previously delegated to the Director of the Office of Acquisition and Assistance is re-delegated to the Assistant Administrator, Bureau for Management or designee.

C. Regulatory Planning and Review

This rule has been determined to be “nonsignificant” under the Executive Order 12866, Regulatory Planning and Review, dated September 30, 1993 and, therefore, is not subject to review. This rule is not a major rule under 5 U.S.C. 804.

D. Regulatory Flexibility Act

The U.S. Agency for International Development certifies that this final rule will not have a significant economic impact on a substantial number of small entities within the meaning of the Regulatory Flexibility Act, 5 U.S.C. 601, et seq., because the revisions of this rule will not impose any costs on either small or large businesses; therefore, an Initial Regulatory Flexibility Analysis has not been performed.

List of Subjects in 2 CFR Part 780

Federal grant program.

For the reasons discussed in the preamble, USAID amends 2 CFR part 780, subparts A and I as set forth below:

PART 780—NONPROCUREMENT DEBARMENT AND SUSPENSION

1. The authority citations for 2 CFR part 780 continue to read as follows:

Authority: Sec. 2455, Pub. L. 103-355, 108 Stat. 3327; E.O. 12549, 3 CFR, 1986 Comp., p. 189; E.O. 12689, 3 CFR, 1989 Comp., p. 235.

Subpart A—General

2. Revise § 780.137 to read as follows:

§ 780.137 Who in USAID may grant an exception to let an excluded person participate in a covered transaction?

The Assistant Administrator, Bureau for Management, or designee as delegated in Agency policy found in ADS 103—Delegations of Authority, may grant an exception permitting an excluded person to participate in a particular covered transaction. If the Assistant Administrator, Bureau for Management or designee, grants an exception, the exception must be in writing and state the reason(s) for deviating from the government-wide policy in Executive Order 12549.

Subpart I—Definitions

3. Revise § 780.930 to read as follows:

§ 780.930 Debarring Official (Agency for International Development supplement to government-wide definition at 2 CFR 180.930).

The Debarring Official for USAID is the Assistant Administrator, Bureau for Management, or designee as delegated in Agency policy found in ADS 103—Delegations of Authority.

4. Revise § 780.1010 to read as follows:

§ 780.1010 Suspending Official (Agency for International Development supplement to government-wide definition at 2 CFR 180.1010).

The Suspending Official for USAID is the Assistant Administrator, Bureau for Management, or designee as delegated in Agency policy found in ADS 103—Delegations of Authority.

Aman S. Djahanbani,
Director, Bureau for Management, Office of Acquisition and Assistance.

[FR Doc. 2015-05569 Filed 3-11-15; 8:45 am]

BILLING CODE 6116-01-P